FEDERAL MARITIME COMMISSION

Ocean Transportation Intermediary License Applicants:

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants

JUC Ocean Express Inc., 3380 Flair Dr., Suite 234, El Monte, CA 91731. Officers: Nai Hui Wang, Director (Qualifying Individual), Tai-Chuan, Wu, Secretary.

Hermes International Movers Corp., 23-83 31st Street, Astoria, NY 11105. Officers: Antonia Ladis, Secretary (Qualifying Individual), Ioannis Ladis, President.

Bravo International Group Corp., 17595 Almahurst Street, #206, City of Industry, CA 91748. Officers: Patricia Wu, Secretary (Qualifying Individual), Chi Hao Hung, President

Embarque Puerto Plata, Corp., 1426 Cromwell Avenue, Bronx, NY 10452. Officer: Hayda Garcia, President (Qualifying Individual).

Excel Freight Logistics, Inc., 9133 S. La Cienega Blvd., Suite #260, Inglewood, CA 90301. Officers: Edmund Tsang, Secretary (Qualifying Individual), Nick Tsu-Wei Lin, President.

WT Cargo LLC, 2100 Northwest 102nd Place, Miami, FL 33172. Officer: Francisco Celedon, President (Qualifying Individual).

Frederic Int'l Co. LLC, 16961 Colchester Way, Hacienda Heights, CA 91745, (Chih-Hui, Cheng, Vice President (Qualifying Individual), Samantha Pao, Secretary.

Railway Express Inc., 123 Pennsylvania Avenue, Kearney, NJ 07032. Officer: Mark Carrera, President (Qualifying Individual).

Non-Vessel Operating Common Carrier and Ocean Freight Forwarder Transportation Intermediary Applicant

HMM Logistics USA, Inc., 12917 Wolverton Lane, Cerritos, CA 90703. Officer: Kee Soo Pahk, President (Qualifying Individual).

Ocean Freight Forwarder—Ocean Transportation Intermediary Applicants

TISCO Logistic, Inc., 19 Schuyler Street, Pasippany, NJ 07054. Officers: Gang Qian, Vice President (Qualifying Individual), Jimmy Hsu, President.

Pacific Ocean Ship Management Co.. dba Pacocean Forwarding, 388 Market Street, Suite 1500, San Francisco, CA 94111, Officers: Alexander J. Bennett, President (Qualifying Individual), Joel S. Zaves, Director.

Dated: January 31, 2003.
Bryant L. VanBrakle,
Secretary.

[FR Doc. 03-2812 Filed 2-5-03; 8:45 am]

BILLING CODE 6730-01-P